DEPARTMENT OF ENERGY

Federal Energy Regulatory Commission

[Docket Nos. CP01-409-000, CP01-410-000, CP01-411-000, and CP01-444-000]

Tractebel Calypso Pipeline, L.L.C.; Notice of Intent to Prepare an Environmental Impact Statement for the Proposed Tractebel Calypso Pipeline Project; Request for Comments on Environmental Issues and Notice of a Public Scoping Meeting and Site Visit

February 11, 2003.

On July 20, 2001, Calypso Pipeline, L.L.C. (Calypso) filed applications for Certificates of Public Convenience and Necessity for authorization to own, construct, operate, and maintain a new 24-inch-diameter, approximately 41.8-mile natural gas pipeline extending from a receipt point on the Exclusive Economic Zone (EEZ) boundary between the United States and the Bahamas to delivery points in Broward County, Florida. On December 10, 2001, Calypso requested that the preparation of the EIS be temporarily suspended. Subsequently, on August 30, 2002, Tractebel Calypso Pipeline, L.L.C., (Tractebel Calypso) and Calypso, jointly filed a letter and enclosure notifying the Commission of a change in the applicant resulting from the sale of certain assets of Calypso to Tractebel Calypso. The sale of the project was completed October 8, 2002. Tractebel Calypso is now considered the applicant on record under the application with all rights and responsibilities attached to that status.

The staff of the Federal Energy Regulatory Commission (FERC or Commission), will prepare an Environmental Impact Statement (EIS) that will analyze the environmental impacts of the proposed Tractebel Calypso Pipeline Project. The FERC will be the lead federal agency. The Mineral Management Service (MMS) and the National Marine Fisheries Service (NMFS) are cooperating agencies in the preparation of the EIS.

The proposed pipeline originates in the Bahamas and would come ashore at Port Everglades, Florida. These facilities would consist of about 41.8-miles of 24-inch-diameter pipeline (approximately 36.0 miles offshore and approximately 5.8 miles onshore), a meter and pressure regulation station with a pig ¹ receiver, and two block valves. This EIS will be used by the Commission in its decision-making process to determine whether the project is in the public convenience and necessity. The MMS will have primary responsibility for offshore analysis in U.S. waters and will coordinate with the U.S. Army Corps of Engineers regarding Florida state waters review. Agencies listed in Appendix 3 are hereby asked to indicate whether they want to be cooperating agencies for purposes of producing an EIS.

¹ Pigs are tools that are used inside the pipeline for cleaning and inspecting the pipe.

The application, and other supplemental filings in this docket are available for viewing on the FERC Internet Web site (http://www.ferc.gov). Click on the “FERRIS” link, select “General Search” from the FERRIS Menu, and follow the instructions, being sure to input the correct docket number (CP01-409). General information about the MMS and detailed information regarding Florida state and Federal waters can be accessed at the MMS Internet Web site (http://www.mms.gov).

If you are a landowner receiving this notice, you may be contacted by a pipeline company representative about the acquisition of an easement to construct, operate, and maintain the proposed facilities. The pipeline company would seek to negotiate a mutually acceptable agreement. However, if the project is approved by the Commission, that approval conveys with it the right of eminent domain and under certain circumstances the pipeline company could initiate condemnation proceedings in accordance with Florida law.

A fact sheet prepared by the FERC entitled “An Interstate Natural Gas Facility On My Land? What Do I Need To Know?” was attached to the project notice that Tractebel Calypso provided to landowners. This fact sheet addresses a number of typically asked questions, including the use of eminent domain and how to participate in the Commission's proceedings. It is available for viewing on the FERC Internet Web site (http://www.ferc.gov).

Summary of the Proposed Project

Florida is experiencing a substantial increase in demand for electric power as a result of population growth in the state. The Tractebel Calypso project would transport into Florida up to 832 million standard cubic feet of natural gas per day. The project would deliver the gas to an interconnect with the Florida Gas Transmission Company (FGT) system.

The Tractebel Calypso project would be located onshore in Broward County, Florida, and offshore in the Atlantic Ocean. The project would receive gas at the U.S./Bahamian EEZ at a subsea connection to a 24-inch pipeline, referred to as the Grand Bahama Island Pipeline, transporting natural gas from a proposed liquefied natural gas (LNG) storage facility in Freeport, Grand Bahama Island. The LNG facility and the Grand Bahama Island Pipeline are nonjurisdictional facilities.

Hawksbill Creek LNG, Ltd., a Bahamian company, proposes to construct and operate the LNG terminal in Freeport, Grand Bahama Island, that would receive LNG tankers arriving from international LNG supply locations. The LNG would be offloaded from the tankers and stored in specially designed storage tanks. From there, the LNG would be revaporized in heat exchangers on the terminal site and the resulting natural gas would be fed into the 24-inch-diameter offshore pipeline.

The FERC and MMS authorizations for this project would not extend eastward of the EEZ. The Government of the Bahamas regulates matters pertaining to the environment and safety and traditionally requires an environmental impact assessment as a condition to approving a project such as the LNG terminal and the Grand Bahama Pipeline. The Government of the Bahamas is in the process of reviewing the environmental impact assessment for these facilities.

The LNG facility and the Grand Bahama Pipeline are not part of the facilities proposed in the Tractebel Calypso Application to the FERC. In its application, Tractebel Calypso seeks authority to construct and operate:

Offshore Pipeline Segment

• The proposed offshore pipeline segment would be located in the Atlantic Ocean, off the southeast Florida coastline, and would consist of approximately 36 miles (31.2 nautical miles) of 24-inch-diameter pipeline (Offshore Pipeline). The Offshore Pipeline would traverse the Atlantic Ocean, starting at the U.S./Bahamian EEZ, passing through Federal and state waters, and ending at a shoreline entry at Port Everglades in Fort Lauderdale, Florida, to connect with the proposed Tractebel Calypso onshore pipeline segment.

Nearshore Pipeline Segment

• The Port Everglades, Florida shore approach would be installed utilizing horizontal directional drilling (HDD) techniques to minimize impacts to three nearshore coral reefs. The pipeline would be directionally drilled out from an upland site at Nova Southeastern University to a point 4,616 feet from shore on the north side of the Port Everglades entrance channel. From this point, a 2,132-foot-long by 25-foot-wide ditch would be cut through an existing spoil disposal area to the origination of a second directional drill. The second directional drill would be used to extend the pipeline an additional 5,130 feet to the northeast exiting at a depth of about 120 feet of water. Finally, the pipeline between 120 feet and 200 feet of depth would be covered with prefabricated flexible concrete mats. Where water depths exceed 200 feet, the Offshore Pipeline would be laid directly on the sea floor.

Onshore Pipeline Segment

• The proposed onshore pipeline segment would be located in Broward County, Florida, and would consist of approximately 5.8 miles of 24-inch-diameter pipeline (Onshore Pipeline). The Onshore Pipeline would start at the terminus of the proposed Offshore Pipeline (the Port Everglades shoreline entry) and end at a proposed interconnection with FGT's existing 24-inch-diameter Lauderdale Lateral at milepost (MP) 1.6 (near Florida Power & Light Company's [FP&L] Fort Lauderdale Plant). A block valve would be located near the beginning of the Onshore Pipeline. A pressure regulation and meter station with a pig receiver and block valve would be located at the terminus of the Onshore Pipeline. The proposed facilities are summarized in tables 1 and 2 below. The general locations of the project facilities are shown in Appendix 1 ². If you are interested in obtaining detailed maps of a specific portion of the project, send in your request using the form in Appendix 4.

² The appendices referenced in this notice are not being printed in the Federal Register. Copies are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Table 1.—Proposed Pipeline Facilities for the Tractebel Calypso Pipeline Project
Location | Length (miles)
U.S. Federal Waters | 31.6
Florida State Waters | 4.4
Broward County (Onshore) | 5.8
Total New Pipeline Length | 41.81
¹ Does not include 53.9 statute miles of nonjurisdictional waters between the Bahamas and the EEZ.

Table 2.—Summary of Ancillary Facilities for the Tractebel Calypso Pipeline Project
Facility | Approximate milepost | Description
Block Valve (below ground) | 36.02 | Nova Southeastern University Oceanographic Center.
Meter and Pressure Regulation Station, Pig Receiver | 41.72 | Disturbed area near PF&L Fort Lauderdale Cooling Pond.
Block Valve (above ground) | 41.83 | Located at a tie-in to FGT pipeline.

Land Requirements for Construction

Construction of the onshore portion of the Tractebel Calypso project would affect a total of about 68.8 acres of land including 31.9 acres required for pipeline construction; 21.4 acres required for extra workspace; 10.0 acres required for a contractor yard; and 0.5 acres required for aboveground facilities. Total land requirements for the permanent right-of-way would be about 4.6 acres and less than 0.3 acres of land would be required for the operation of the new permanent aboveground facilities. The remaining approximately 64 acres of land affected by construction would be restored and allowed to revert to its former use.

Approximately 2.2 miles (38 percent) of the Onshore Pipeline would be directionally drilled or bored underground. Of the remaining 3.6 miles of the proposed route, approximately 2.8 miles (78 percent) would cross industrial/commercial land. About 3.4 miles (94 percent) would be installed parallel to existing roadway, pipeline, and utility rights-of-way. Tractebel Calypso would typically use a 75-foot-wide construction right-of-way width. Additional temporary work areas may be necessary for waterbody, highway, and railroad crossings; additional topsoil storage; and pipe storage and equipment yards.

Following construction and restoration of the right-of-way and temporary extra work spaces, Tractebel Calypso would retain a new 10-foot-wide permanent easement for the 24-inch-diameter pipeline. The remaining portion of the construction right-of-way would be returned to landowners for their use without restrictions after appropriate reclamation efforts are successful.

According to the applicant, constructing the offshore portion of the Tractebel Calypso project would affect 766 acres in Federal waters. Tractebel Calypso has predicted that in Florida state waters construction of the pipeline would cause temporary direct impacts to 1.7 acres of marine hardbottom habitat of which 0.3 acres is coral reef and the remainder is disturbed and/or transitional hardbottom habitat. Approximately 1.8 acres of sand bottom would be affected. Construction-generated sediment would affect an additional 4.3 acres of the spoil area, about 0.3 acres of reef, and 0.1 acres of reef-sand transitional area.

The EIS Process

The National Environmental Policy Act (NEPA) requires the Commission to take into account the environmental impacts that could result from an action whenever it considers the issuance of a Certificate of Public Convenience and Necessity. NEPA also requires us ³ to discover and address concerns the public may have about proposals. This is called “scoping”. The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

³ “We”, “us”, and “our” refer to the environmental staff of the Office of Energy Projects (OEP).

The EIS will discuss impacts that could occur as a result of the construction and operation of the proposed project under these general headings:

• Soils and sediments

• Water resources

• Wetlands, barrier beaches, and submerged aquatic vegetation

• Vegetation

• Fish and wildlife

• Endangered and threatened species

• Land use, recreation, and visual resources

• Air quality and noise

• Cultural resources

• Socioeconomics

• Reliability and safety

• Alternatives

We will also evaluate possible alternatives to the proposed project or portions of the project, and make recommendations on how to lessen or avoid impacts on the various resource areas.

Our independent analysis of the issues will be in the Draft EIS. The Draft EIS will be mailed to Federal, state, and local agencies, public interest groups, interested individuals, affected landowners, newspapers, libraries, and the Commission's official service list for this proceeding. A 45-day comment period will be allotted for review of the Draft EIS. We will consider all comments on the Draft EIS and revise the document, as necessary, before issuing a Final EIS. The Final EIS will include our responses to comments received and will be used by the Commission in its decision-making process to determine whether to approve the project.

To ensure your comments are considered, please carefully follow the instructions in the Public Participation and Scoping Meeting section of this Notice of Intent.

Currently Identified Environmental Issues

The EIS will discuss impacts that could occur as a result of the construction and operation of the proposed project. We have already identified a number of issues that deserve attention based on a preliminary review of the proposed facilities, the environmental information provided by Tractebel Calypso, and early input from intervenors. Some of these issues are listed below. This list is preliminary and may be changed based on your comments and our analysis.

• Construction and operational effects on seagrasses, coral reefs, hard and soft bottom communities, mangroves, and aquatic organisms;

• Extent and effects of turbidity and sedimentation that may result from pipeline trenching and directional drilling in shallow waters;

• Failure or inadvertent releases during construction of the HDD segments;

• Potential effects of proposed shore approach on the Port Everglades entrance channel and on sensitive surface waters, including the Port Everglades and Intracoastal Waterway;

• Effects to wildlife and fisheries, including federally protected species, essential fish habitat and fisheries of concern, and other biological resources of concern;

• Potential fuel spills from the pipelay barges and associated vessel traffic;

• Potential effect on future land use of 27 parcels of land, and effect on 24 landowners and governmental agencies;

• Potential effects to resources and recreation associated with construction and operation within John U. Lloyd State Park;

• Effect of construction on groundwater and surface water supplies;

• Potential introduction and control of non-native plant species;

• Potential effects on federally endangered and threatened species including the wood stork, Johnson's seagrass, West Indian manatee, loggerhead sea turtle, green sea turtle, hawksbill sea turtle, Kemp's ridley sea turtle, and leatherback sea turtle;

• Potential effects on offshore submerged cultural resources;

• Noise generated as a result of pipeline construction;

• Temporary disruption of local roadways and recreational trails during construction;

• Potential impacts on 1.7 acres of wetlands;

• Potential effect of the project on designated airport runway clearance zones;

• Cumulative effects of the proposed project with other projects, including natural gas pipelines and other utilities, which have been recently constructed or are proposed to be built in the same region and similar time frames;

• Public Safety in the vicinity of the proposed facilities.

Public Participation and Scoping Meeting

You can make a difference by providing us with your specific comments or concerns about the project. By becoming a commentor, your concerns will be addressed in the EIS and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of the Gas/Hydro Branch.

• Reference Docket No. CP01-409-000.

• Mail your comments so that they will be received in Washington, DC on or before March 14, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Information Request (Appendix 4). If you do not return the Information Request, you will be taken off the mailing list.

In addition to or in lieu of sending written comments, we invite you to attend the public scoping meeting the FERC will conduct in the project area. The location and time for this meeting is listed below.

Schedule for the Tractebel Calypso Pipeline Project Environmental Impact Statement Public Scoping Meeting

Date and Time, Location, Phone

March 5, 2003 at 7 p.m.—I.T. Parker, Community Center 901 N.E., Third Street, Dania Beach, FL 33004—(954) 924-3698.

The public meeting is designed to provide you with more detailed information and another opportunity to offer your comments on the proposed project. Prior to the start of the meeting, company representatives will be available to informally discuss the project. Interested groups and individuals are encouraged to attend the meeting and to present comments on the environmental issues they believe should be addressed in the Draft EIS. A transcript of the meeting will be made so that your comments will be accurately recorded.

On the morning of March 6, 2003, representatives of Tractebel Calypso and Commission staff will be visiting some project areas. Anyone interested in participating in the site visit may meet in the parking lot of the I.T. Parker Community Center at 9AM. Individuals must provide their own transportation.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see Appendix 2)⁴. Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in Appendix 3, to express their interest in becoming cooperating agencies for the preparation of the EIS.

Additional Information

Additional information about the project is available from the Commission's Office of External Affairs, at 1-866-208-FERC, or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

Magalie R. Salas,
Secretary.

[FR Doc. 03-3791 Filed 2-14-03; 8:45 am]

BILLING CODE 6717-01-P